DEPARTMENT OF THE INTERIOR

National Park Service

[NPS-WASO-NRNHL-14911: PPWOCRADI0, PCU00RP14.R50000]

National Register of Historic Places; Notification of Pending Nominations and Related Actions

Nominations for the following properties being considered for listing or related actions in the National Register were received by the National Park Service before January 18, 2014. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by February 25, 2014. Before including your address, phone number, email address, or other personal identifying information in your comment, you should be aware that your entire comment—including your personal identifying information—may be made publicly available at any time. While you can ask us in your comment to withhold your personal identifying information from public review, we cannot guarantee that we will be able to do so.

Dated: January 27, 2014.
J. Paul Loether,
Chief, National Register of Historic Places/National Historic Landmarks Program.

CALIFORNIA

Los Angeles County

Lasky—DeMille Barn, 2100 N. Highland St., Los Angeles, 14000034

GUAM

Guam County

Dislocated Latte from Fena at Senator Angel L.G. Santos Latte Park, Address Restricted, Hagatna, 14000036

Fonte River Dam, Across Fonte R., Libugon, 14000035

Lumuna Shell Trumpet, 238 Archbishop Flores St., Hagatna, 14000037

Yokoi, Sergeant Shoichi, Collection, 238 Archbishop Flores St., Hagatna, 14000038

MINNESOTA

Ramsey County

St. Paul Union Depot (Boundary Increase), (Railroads in Minnesota MPS) 214 E. 4th St., St. Paul, 14000039

OHIO

Clark County

Wittenberg University Historic District, Roughly bounded by Bill Edwards Dr., N. Fountain, W. Ward & Plum, Springfield, 14000040

Franklin County

High and Gay Streets Historic District, Bounded by Gay, Wall & High Sts., Pearl, Lynn & Elm Alleys, Columbus, 14000041

Lake County

Staley, Mr. and Mrs. Karl A., House, 6363 Lake Rd., W., Madison, 14000042

SOUTH CAROLINA

Chesterfield County

Smalls, Robert, School, 316 Front St., Cheraw, 14000043

VERMONT

Orange County

Fairlee Town Hall, 75 Town Common Rd., Fairlee, 14000044

[FR Doc. 2014-02750 Filed 2-7-14; 8:45 am]

BILLING CODE 4312-51-P